DEPARTMENT OF THE INTERIOR

Bureau of Land Management

[MT-070-1430-ET; MTM 73404]

Notice of Proposed Withdrawal Extension and Opportunity for Public Meeting; Montana

AGENCY: Bureau of Land Management, Interior.

ACTION: Notice.

SUMMARY: The Bureau of Land Management (BLM) proposes to extend the duration of Public Land Order (PLO) No. 6912 for an additional 20-year term. The PLO withdrew approximately 490 acres of reserved public minerals from location or entry under the United States mining laws for the BLM to protect the archaeological, historical, educational, interpretive, and recreational integrity of the Mount Haggin Prehistoric Quarry Site in Deer Lodge County. This notice also gives an opportunity to comment on the proposed action and to request a public meeting.

DATES: Comments and requests for a public meeting must be received by April 16, 2009.

ADDRESSES: Comments and meeting requests should be sent to the BLM Butte Field Manager, 106 North Parkmont, Butte, Montana 59701.

FOR FURTHER INFORMATION CONTACT: Mary Figarelle, BLM, Butte Field Office, (406) 533-7671, or at the above address, or Sandra Ward, BLM, Montana State Office, (406) 896-5052, or at 5001 Southgate Drive, Billings, Montana 59101-4669.

SUPPLEMENTARY INFORMATION: The withdrawal created by PLO No. 6912 (56 FR 60928 (1991)) will expire November 28, 2011, unless extended. The BLM has filed an application to extend PLO No. 6912 for an additional 20-year period. The withdrawal was made to protect the Mount Haggin Prehistoric Quarry Site on the reserved minerals described as follows:

Principal Meridian, Montana

T. 3 N., R. 11 W.,

Sec. 20, those portions lying east of Highway 274;

Sec. 29, lots 2, 4, 5, 7, and 8, and that portion of lot 6 lying east of Highway 274.

The area described contains approximately 490 acres in Deer Lodge County.

The purpose of the proposed extension is to continue the withdrawal created by PLO No. 6912 for an additional 20-year term to protect the archaeological, historical, educational, interpretive, and recreational integrity of the Mount Haggin Prehistoric Quarry Site.

As extended, the withdrawal would not alter the applicability of those public land laws governing the use of lands under lease, license, or permit or governing the disposal of the mineral or vegetative resources other than under the mining laws.

The use of a right-of-way or interagency or cooperative agreement would not adequately protect the paleontological resources and capital improvements in these areas.

There are no suitable alternative sites available. Significant cultural resources are located at the quarry site.

Water will not be needed to fulfill the purposes of the withdrawal.

For a period of 90 days from the date of publication of this notice, all persons who wish to submit comments, suggestions, or objections in connection with the proposed withdrawal extension may present their views in writing to the BLM Butte Field Office at the address noted above.

Comments, including names and street addresses of respondents, will be available for public review at the BLM Butte Field Office at the address noted above during regular business hours 7:45 a.m. to 4:30 p.m., Monday through Friday, except holidays. Before including your address, phone number, e-mail address, or other personal identifying information in your comments, be advised that your entire comment—including your personal identifying information—may be made publicly available at any time. While you can ask us in your comment to withhold from public review your personal identifying information, we cannot guarantee that we will be able to do so. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal extension. All interested persons who desire a public meeting for the purpose of being heard on the proposed withdrawal extension must submit a written request to the BLM Butte Field Manager within 90 days from the date of publication of this notice. If the authorized officer determines that a public meeting will be held, a notice of the time and place will be published in the Federal Register at least 30 days before the scheduled date of the meeting. This withdrawal extension proposal will be processed in accordance with the applicable regulations set forth in 43 CFR 2310.4.

Authority: 43 CFR 2310.3-1.

Dated: January 8, 2009.
Theresa M. Hanley,
Deputy State Director, Division of Resources.

[FR Doc. E9-949 Filed 1-15-09; 8:45 am]

BILLING CODE 4310-$$-P